ENVIRONMENTAL PROTECTION AGENCY

[EPA-HQ-OPP-2009-0332; FRL-8838-6]

Methyl Parathion; Rescision of Previously Issued Order and Issuance of Revised Cancellation Order for Certain Pesticide Registrations

AGENCY: Environmental Protection Agency (EPA).

ACTION: Notice.

SUMMARY: This notice announces EPA's rescision of a previously issued cancellation order and provides a revised cancellation order, voluntarily requested by the registrants and accepted by the Agency, of products containing methyl parathion, pursuant to section 6(f)(1) of the Federal Insecticide, Fungicide, and Rodenticide Act (FIFRA), as amended. This revised cancellation order rescinds a July 16, 2010 Federal Register Notice which incorrectly stated the effective date of the cancellations of the product registrations listed in Table 1 of Unit II. This order correctly identifies the effective dates of cancellation for the affected product registrations. In addition, this order clarifies the existing stocks provisions. These are the last products containing this pesticide registered for use in the United States. In the April 28, 2010 Federal Register Notice of Receipt of Requests from the registrants listed in Table 2 of Unit II. to voluntarily cancel all these product registrations, EPA indicated that it would issue an order implementing the cancellations, unless the Agency received substantive comments within the 30 day comment period that would merit its further review of these requests, or unless the registrants withdrew their requests. The Agency received two comments on the notice but none merited the denial or the further review of the requests. Further, the registrants did not withdraw their requests. Accordingly, EPA hereby issues in this notice a cancellation order granting the requested cancellations. Any distribution, sale, or use of the products subject to this cancellation order is permitted only in accordance with the terms of this order, including any existing stocks provisions.

DATES: The cancellations are effective December 31, 2012.

FOR FURTHER INFORMATION CONTACT: Kelly Ballard, Pesticide Re-evaluation Division (7508P), Office of Pesticide Programs, Environmental Protection Agency, 1200 Pennsylvania Ave., NW., Washington, DC 20460-0001; telephone number: (703) 305-8126; fax number: (703) 305-5290; e-mail address: ballard.kelly@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

EPA has established a docket for this action under docket identification (ID) number EPA-HQ-OPP-2009-0332. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What Action is the Agency Taking?

This revised cancellation order rescinds a July 16, 2010 Federal Register Notice (75 FR 41482) which incorrectly stated the effective date of the cancellations of the product registrations listed in Table 1 of Unit II and issues a revised order for the cancellation of methyl parathion products. This order correctly identifies the effective dates of cancellation for the affected product registrations. In addition, this order clarifies the existing stocks provisions.

The cancellation order for methyl parathion products, issued in the Federal Register on July 16, 2010 is rescinded. This notice announces the cancellations as requested by registrants, of methyl parathion products registered under section 3 of FIFRA. These registrations are listed in sequence by registration number in Table 1 of this unit.

Table 1.—Methyl Parathion Product Cancellations
EPA Registration Number | Product Name
4787-33 | Cheminova Methyl Parathion Technical
67760-43 | Cheminova Methyl Parathion 4 EC
70506-193 | PENNCAP-M Microencapsulated Insecticide

Table 2 of this unit includes the names and addresses of record for all registrants of the products in Table 1 of this unit, in sequence by EPA company number. This number corresponds to the first part of the EPA registration numbers of the products listed above.

Table 2.—Registrants of Cancelled Products
EPA Company Number | Company Name and Address
4787 | Cheminova A/S 1600 Wilson Boulevard, Suite 700 Arlington, VA 22209
67760 | Cheminova, Inc. 1600 Wilson Boulevard, Suite 700 Arlington, VA 22209
70506 | United Phosphorus 630 Freedom Business Center, Suite 402 King of Prussia, PA 19406

III. Summary of Public Comments Received and Agency Response to Comments

EPA received two comments from the general public. The first comment was from the Independent Scientific Research Advocates, and refers to the toxicity issues of organophosphates as a class of chemicals, and does not specifically refer to this cancellation action for methyl parathion. The second comment was from the USA Rice Federation, and notes the concern over the loss of methyl parathion. USA Rice would like EPA to expedite a replacement chemical for methyl parathion, and would support the expedition. The Agency does not believe that the comments submitted during the comment period merit further review for the purpose of this order or for a denial of the requests for voluntary cancellation.

IV. Cancellation Order

Pursuant to FIFRA section 6(f), EPA hereby approves the requested cancellations of methyl parathion registrations identified in Table 1 of Unit II. Accordingly, the Agency hereby orders that the product registrations identified in Table 1 of Unit II. are canceled. The effective date of the cancellations that are subject of this notice is December 31, 2012. Any distribution, sale, or use of existing stocks of the products identified in Table 1 of Unit II. in a manner inconsistent with any of the provisions for disposition of existing stocks set forth in Unit VI. will be a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment on April 28, 2010 (75 FR 22402-22404) (FRL-8822-6). The comment period closed on May 28, 2010.

VI. Provisions for Disposition of Existing Stocks

Existing stocks are those stocks of registered pesticide products which are currently in the United States and which were packaged, labeled, and released for shipment prior to the effective date of the action. The existing stocks provision for the products subject to this order is specified in the Memorandum of Agreement between the EPA and registrants listed in Table 2 (www.regulations.gov—EPA-HQ-OPP-2009-0010). The existing stocks provision is as follows: All sale, distribution and use of existing stocks of manufacturing-use products imported into the United States shall be prohibited as of December 31, 2012. In addition, as of December 31, 2012, all sale, distribution, and use of existing stocks of manufacturing-use products shall be prohibited unless the sale, distribution, or use is for purposes of export consistent with section 17 of FIFRA or for proper disposal. Registrants are prohibited from selling or distributing end-use products as of December 31, 2012, except for end-use products intended for export consistent with the requirements of section 17 of FIFRA, or for proper disposal. Persons other than the registrants are permitted to sell or distribute end-use products prior to August 31, 2013. All sale and distribution of end-use products shall be prohibited as of August 31, 2013, except for export consistent with section 17 of FIFRA or for proper disposal. Additionally, all use of existing stocks of the end-use products shall be prohibited as of December 31, 2013, except for products intended for export consistent with the requirements of section 17 of FIFRA or proper disposal. Finally, as of the effective date of this cancellation order, any permitted use of existing stocks is expressly conditioned upon such use being consistent with the terms of the previously approved labeling on or that accompanied the cancelled product.

List of Subjects

Environmental protection, Pesticides and pests.

Dated: July 20, 2010.
Richard P. Keigwin, Jr.,
Director, Pesticide Re-evaluation Division, Office of Pesticide Programs.

[FR Doc. 2010-18380 Filed 7-26-10; 8:45 am]

BILLING CODE 6560-50-S